DEPARTMENT OF THE INTERIOR

Bureau of Land Management

DEPARTMENT OF AGRICULTURE

Forest Service

Clarification of Language in the 1994 Record of Decision for the Northwest Forest Plan: National Forests and Bureau of Land Management Districts Within the Range of the Northern Spotted Owl; Western Oregon and Washington, and Northwestern California

AGENCY: Bureau of Land Management, USDI; Forest Service, USDA.

ACTION: Notice of Availability (NOA) of the Draft Supplemental Environmental Impact Statement (DSEIS) for the Clarification of Language in the 1994 record of decision for the Northwest Forest Plan; National Forests and Bureau of Land Management Districts within the range of the Northern Spotted Owl.

SUMMARY: The USDI Bureau of Land Management and the USDA Forest Service have prepared a DSEIS to consider an amendment of selected portions of the Aquatic Conservation Strategy (ACS) (part of the Northwest forest Plan) to clarify guidance intended to protect and restore watersheds. This amendment is needed because projects intended to achieve Northwest Forest Plan goals have been delayed or stopped due to misapplication of certain passages in the ACS. This DSEIS supplements the Northwest Forest Plan Final SEIS. It is not intended to replace or reconsider the plan as a whole, but focuses on specific passages within the ACS.

DATES: Written comments on the DSEIS must be postmarked or otherwise delivered by 4:15 p.m. 90 days following the date the Environmental Protection Agency publishes the NOA and filing of the DSEIS in the Federal Register. Individual respondents may request confidentiality. If you wish to withhold your name or address from public review or from disclosure under the Freedom of Information Act, you must state this prominently at the beginning of your written comment. Such requests will be honored to the extent allowed by law. All submissions from organizations or businesses, and from individuals identifying themselves as representatives or officials of organizations or businesses, will be made available for public inspection in their entirety. No public meetings have been scheduled.

ADDRESSES: Send written comments to: ACS EIS, P.O. Box 221090, Salt Lake City, UT 84122-1090; FAX: (801) 517-1014 (please address fax to “ACS EIS”); E-mail: acs comments@fs.fed.us.

FOR FURTHER INFORMATION CONTACT: Joyce Casey; phone (503) 326-2430; E-mail: jcasey01@fs.fed.us.

SUPPLEMENTARY INFORMATION: Two alternatives are considered in this DSEIS. No action would not change existing language within the ACS. The proposed action (preferred alternative) would make limited changes to clarify how the agencies are to design projects to follow the ACS.

The proposed action would approve limited changes to language within the ACS. The ACS is an integral part of the Northwest Forest Plan. The ACS is intended to maintain and restore the ecological health of watersheds and aquatic ecosystems within the Northwest Forest Plan area. The ACS includes language that has been interpreted to establish an expectation that all projects must achieve all ACS objectives. These interpretations hinder Federal land managers' ability to plan and implement projects needed to achieve Northwest Forest Plan goals. The proposed action would amend the Northwest Forest Plan to clarify that:

• The proper scales for Federal land managers to evaluate progress toward achievement of the ACS objectives are the watershed and broader scales;

• No single project should be expected to achieve all ACS objectives;

• Decision makers must design projects to follow the ACS. Project records must contain evidence that projects comply with relevant Standards and Guidelines in sections C and D of attachment A in the Northwest Forest Plan record of decision. Project records must also demonstrate how the decision maker used relevant information from applicable watershed analysis to provide context for the design and assessment of the project.

• References to ACS objectives in the Standards and Guidelines in Sections C and D do not require that decision makers find that site-specific projects, in themselves, will fully attain ACS objectives.

The proposed action (preferred alternative) would retain all existing components of the ACS, including Riparian Reserves, Key Watersheds, watershed analysis, and watershed restoration. It would reinforce concepts about appropriate scales of analysis and the role of standards and guidelines. It would remove the expectation that all projects must achieve all ACS objectives, and would reinforce the role of watershed analysis in providing context for actions that may affect aquatic or riparian habitat.

Dated: April 9, 2003.
Michael C. Ash,
Deputy Regional Forester, Pacific Northwest Region.

[FR Doc. 03-9128 Filed 4-14-03; 8:45 am]

BILLING CODE 3410-11-M